FEDERAL MARITIME COMMISSION

Privacy Act of 1974; Proposed Republication and Altered Systems of Records

June 27, 2008.

AGENCY: Federal Maritime Commission.

ACTION: Notice of republication and altered systems of records.

SUMMARY: This Notice proposes the amendment of various Privacy Act Systems of Records maintained by the Commission and republication of the agency's complete Systems of Records.

DATES: Submit an original and 15 copies of comments (paper), or e-mail comments as an attachment in WordPerfect 10, Microsoft Word 2003, or earlier versions of these applications, no later than August 1, 2008. The alterations will be effective on August 11, 2008, unless comments are received that would result in a contrary determination.

ADDRESSES: Address all comments concerning this notice to: Karen V. Gregory, Assistant Secretary, Federal Maritime Commission, 800 N. Capitol Street, NW., Washington, DC 20573-0001, Secretary@fmc.gov.

FOR FURTHER INFORMATION CONTACT: Karen V. Gregory, Assistant Secretary, Federal Maritime Commission, 800 N. Capitol Street, NW., Washington, DC 20573-0001, (202) 523-5725, Secretary@fmc.gov.

SUPPLEMENTARY INFORMATION: Notice is given that, pursuant to the Privacy Act of 1974, 5 U.S.C. 552a, the Federal Maritime Commission proposes to amend various Systems of Records (“SOR”) and to republish the complete SOR.

The following systems are being deleted: FMC-15 Service Control Line-FMC—because the files are no longer maintained by the Office of Human Resources; FMC-21—Payroll Records—because a new system has been developed which indicates that the Payroll Records are no longer handled by the Office of Thrift Supervision; and FMC-30—Procurement Integrity Certification Files—because it relates to the Automated Tariff Filing and Information System which has been discontinued.

The Office of Management and Budget has advised that agencies should publish a routine use for appropriate systems of records specifically applying to the disclosure of information in connection with response and remedial efforts in the event of a data breach involving Personally Identifiable Information. Accordingly, the following routine use has been added to each of the Commission's SOR:

To appropriate agencies, entities, and persons when (a) The Federal Maritime Commission suspects or has confirmed that the security or confidentiality of information in the system of records has been compromised; (b) the agency has determined that as a result of the suspected or confirmed compromise there is a risk of harm to economic or property interests, identity theft or fraud, or harm to the security or integrity of this system or other systems or programs (whether maintained by the agency or another agency or entity) that rely upon the compromised information; and (c) the disclosure made to such agencies, entities, and persons is reasonably necessary to assist in connection with the agency's efforts to respond to the suspected or confirmed compromise and prevent, minimize, or remedy such harm.

In addition, minor changes are being made which reflect organizational name changes and changes to retention time periods. Non-substantive editorial changes are also being made to appropriate systems. These affected systems are: FMC-8—Official Personnel Folder; FMC-9—Training Program Records; FMC-14—Medical Examination File; FMC-16—Classification Appeals File; and FMC-29—Employee Performance File System Records. These systems all fall under the Office of Personnel Management's Government-wide SOR. Also, FMC-25—Inspector General File is being changed to reflect that investigative files that do not relate to a specific investigation, currently retained for ten years, will now be retained for seven years. Other investigative case files that were retained for fifteen years will now be retained for ten years.

Interested parties may participate by filing with the Assistant Secretary, Federal Maritime Commission, an original and 15 copies of their views and comments (paper), or e-mail comments as an attachment in WordPerfect 10, Microsoft Word 2003, or earlier versions of these applications. All suggestions for changes should be accompanied by draft language necessary to accomplish the desired changes, and should include supportive statements and arguments.

A complete Systems of Records reflecting the above listed changes follows.

Federal Maritime Commission

Systems of Records

FMC-1 Personnel Security File.

FMC-2 Non-Attorney Practitioner File.

FMC-7 Licensed Ocean Transportation Intermediaries Files (Form FMC-18).

FMC-8 Official Personnel Folder.

FMC-9 Training Program Records.

FMC-10 Desk Audit File.

FMC-14 Medical Examination File.

FMC-16 Classification Appeals File.

FMC-18 Travel Orders/Vouchers File.

FMC-19 Financial Disclosure Reports and Other Ethics Program Records.

FMC-22 Records Tracking System.

FMC-24 Informal Inquiries and Complaints Files.

FMC-25 Inspector General File.

FMC-26 Administrative Grievance File.

FMC-28 Equal Employment Opportunity Complaints File.

FMC-29 Employee Performance File System Records.

FMC-31 Debt Collection Files.

FMC-1

System name:

Personnel Security File—FMC.

Security Classification:

Unclassified.

System location:

Office of Human Resources, Federal Maritime Commission, 800 N. Capitol Street, NW., Washington, DC 20573-0001.

Categories of individuals covered by the system:

1. Employees of the Federal Maritime Commission. 2. Applicants for employment with the Federal Maritime Commission.

Categories of records in the system:

Results of name checks, inquiries, and investigations to determine suitability for employment with the U.S. Government, and for access to classified information, position sensitivity designation, and record of security clearance issued, if any.

Authority for maintenance of the system:

Executive Orders 10450, 12958, and 12968.

Routine uses of records maintained in the system, including categories of users and the purposes of such uses:

The records in this system of records are used or may be used:

1. By Commission officials to determine suitability for employment of an applicant or retention of a current employee and to make a determination that the employment of an applicant or retention of a current employee within the Commission is clearly consistent with the interests of national security.

2. To refer, where there is an indication of a violation or potential violation of law, whether civil or criminal or regulatory in nature, information to the appropriate agency, whether Federal, State, or local, charged with the responsibility of investigating or prosecuting such violation or charged with enforcing or implementing the statute, rule, regulation or order issued pursuant thereto.

3. To request from a Federal, State, or local agency maintaining civil, criminal, or other relevant enforcement information, data relevant to a Commission decision concerning the hiring or retention of an employee or the issuance of a security clearance.

4. To provide or disclose information to a Federal agency in response to its request in connection with the hiring or retention of an employee, the issuance of a security clearance, the letting of a contract, or the issuance of a license, grant or other benefit by the requesting agency, to the extent that the information is relevant and necessary to the requesting agency's decision on that matter.

5. By a court of law or appropriate administrative board or hearing having review or oversight authority.

6. To appropriate agencies, entities, and persons when (a) The Federal Maritime Commission suspects or has confirmed that the security or confidentiality of information in the system of records has been compromised; (b) the agency has determined that as a result of the suspected or confirmed compromise there is a risk of harm to economic or property interests, identity theft or fraud, or harm to the security or integrity of this system or other systems or programs (whether maintained by the agency or another agency or entity) that rely upon the compromised information; and (c) the disclosure made to such agencies, entities, and persons is reasonably necessary to assist in connection with the agency's efforts to respond to the suspected or confirmed compromise and prevent, minimize, or remedy such harm.

Policies and practices for storing, retrieving, accessing, retaining, and disposing of records in the system:

Storage:

Records are maintained in file folders.

Retrievability:

Records are indexed alphabetically by name.

Safeguards:

Records are maintained in a combination safe in the custody of the Information Security Officer, and access is limited to the Information Security Officer and the Personnel Security Officer and his/her duly authorized representatives.

Retention and disposal:

Maintain Office of Personnel Management reports of investigation and other FMC records on file until termination of employee from agency. Destroy within 30 days after employee leaves the agency.

System manager(s) and address:

Information Security Officer, Office of Human Resources, Federal Maritime Commission, 800 North Capitol Street, NW., Washington, DC 20573-0001.

Notification procedure:

All inquiries regarding this system of records should be addressed to: Secretary, Federal Maritime Commission, 800 North Capitol Street, NW., Washington, DC 20573-0001.

Record access procedures:

Requests for access to a record should be directed to the Secretary listed at the above address. Requests may be in person or by mail and shall meet the requirements set out in section 503.65 of title 46 of the Code of Federal Regulations.

Contesting record procedures:

An individual desiring to amend a record shall direct such request to the Secretary at the above listed address. Such requests shall specify the desired amendments and the reasons therefor, and shall meet the requirements of section 503.66 of title 46 of the Code of Federal Regulations.

Record source categories:

Office of Personnel Management report, and reports from other Federal agencies.

Systems exempted from certain provisions of the Act:

All information about individuals that meets the criteria of 5 U.S.C. 552a(k)(5), regarding suitability, eligibility or qualifications for Federal civilian employment or for access to classified information, to the extent that disclosure would reveal the identity of a source who furnished information to the Commission under a promise of confidentiality is exempt from the provisions of 5 U.S.C. 552a(c)(3), (d), (e)(1), (e)(4)(G), (H), and (I), and (f). Exemption is required to honor promises of confidentiality.

FMC-2

System name:

Non-Attorney Practitioner File—FMC.

System Classification

Unclassified.

System location:

Office of Secretary, Federal Maritime Commission, 800 North Capitol Street, NW., Washington, DC 20573-0001.

Categories of individuals covered by the system:

Persons, who are not attorneys, who apply for permission to practice before the Commission.

Categories of records in the system:

Application forms containing descriptions of educational and professional experience and qualifications, taxpayer identification numbers (which may be the social security number), and letters of reference in relation to non-attorney practitioners.

Authority for maintenance of the system:

46 CFR 502.27.

Routine uses of records maintained in the system, including categories of users and the purposes of such uses:

The records in this system of records are used or may be used:

1. By personnel of the Secretary's Office to determine whether a non-attorney should be admitted to practice before the Commission.

2. To refer, where there is an indication of a violation or potential violation of law, whether civil or criminal or regulatory in nature, information to the appropriate agency, whether Federal, State, or local, charged with the responsibility of investigating or prosecuting such violation or charged with enforcing or implementing the statute, rule, regulation or order issued pursuant thereto.

3. To request from a Federal, State, or local agency maintaining civil, criminal, or other relevant enforcement information, data relevant to a Commission decision concerning the hiring or retention of an employee, the issuance of a security clearance, the letting of a contract, or the issuance of a license, grant, or other benefit.

4. To provide or disclose information to a Federal agency in response to its request in connection with the hiring or retention of an employee, the issuance of a security clearance, the letting of a contract, or the issuance of a license, grant or other benefit by the requesting agency, to the extent that the information is relevant and necessary to the requesting agency's decision on that matter.

5. To appropriate agencies, entities, and persons when (a) The Federal Maritime Commission suspects or has confirmed that the security or confidentiality of information in the system of records has been compromised; (b) the agency has determined that as a result of the suspected or confirmed compromise there is a risk of harm to economic or property interests, identity theft or fraud, or harm to the security or integrity of this system or other systems or programs (whether maintained by the agency or another agency or entity) that rely upon the compromised information; and (c) the disclosure made to such agencies, entities, and persons is reasonably necessary to assist in connection with the agency's efforts to respond to the suspected or confirmed compromise and prevent, minimize, or remedy such harm.

Policies and practices for storing, retrieving, accessing, retaining, and disposing of records in the system:

Storage:

Physical records are maintained in file folders. Electronic records are maintained in a database on a computer hard drive.

Retrievability:

Physical records are indexed alphabetically by name. Electronic records are retrievable by name, address, company, application date, admission date, or card number.

Safeguards:

Physical records are maintained in file cabinets under the control of personnel in the Secretary's office. Electronic records are password protected.

Retention and disposal:

Records are maintained in the Office of the Secretary for 10 years after applicant ceases to practice and then are transferred to the Federal Records Center. Records are destroyed 20 years thereafter.

System manager(s) and address:

Secretary, Federal Maritime Commission, 800 North Capitol Street, NW., Washington, DC 20573-0001.

Notification procedure:

All inquiries regarding this system of records should be addressed to: Secretary, Federal Maritime Commission, 800 North Capitol Street, NW., Washington, DC 20573-0001.

Record access procedures:

Requests for access to a record should be directed to the Secretary listed at the above address. Requests may be in person or by mail and shall meet the requirements set out in section 503.65 of title 46 of the Code of Federal Regulations.

Contesting record procedures:

An individual desiring to amend a record shall direct such a request to the Secretary at the above listed address. Such requests shall specify the desired amendments and the reasons therefor, and shall meet the requirements of section 503.66 of title 46 of the Code of Federal Regulations.

Record source categories:

Applicants.

FMC-7

System name:

Licensed Ocean Transportation Intermediaries Files (Form FMC-18).

Security Classification:

Unclassified.

System location:

Bureau of Certification and Licensing, Federal Maritime Commission, 800 North Capitol Street, NW., Washington, DC 20573-0001.

Categories of individuals covered by the system:

Records are maintained on individuals, including sole proprietorships, members of partnerships, and officers and owners of corporate licensees, managers and owners of limited liability companies, ex-licensees, and applicants for licenses.

Categories of records in the system:

The System contains ocean transportation intermediaries (OTIs) names, addresses and taxpayer identification numbers (which may be the Social Security Numbers), as well as the names, addresses, and Social Security Numbers (or alternatively, driver's license numbers, passport numbers or alien registration numbers) of the stockholders, officers, and directors of individual OTIs; descriptions of the relationships the OTI may have with other business entities; corporate organizational documents and business licenses; a record of the OTI's past experience in providing or procuring ocean transportation services; surety bond information with respect to licensed OTIs; and any financial information and/or criminal convictions pertinent to the licensing of the OTIs. Under the Shipping Act of 1984, as amended, OTIs may be either an ocean freight forwarder, a non-vessel-operating common carrier or both.

Authority for maintenance of the system:

5 U.S.C. 553; secs. 3, 8, 10, 11, 13, 15, 17 and 19, Shipping Act of 1984 (recodified October 2006 as 46 U.S.C. 305, 40102, 40104, 40501-40503, 40901-40904, 41101-41109, 41302-41303, and 41305).

Routine uses of records maintained in the system, including categories of users and the purposes of such uses:

These records and information contained in these records may be disclosed as follows:

1. By Commission staff for evaluation of applicants for licensing.

2. By Commission staff for monitoring the activities of licensees to ensure they are in compliance with Commission regulations.

3. To refer, where there is an indication of a violation or potential violation of law whether civil, criminal or regulatory in nature, information to the appropriate agency, whether Federal, State, or local, charged with the responsibility of investigating or prosecuting such violation or charged with enforcing or implementing the statute, rules, regulations, or orders issued pursuant thereto.

4. To request from a Federal, State, or local agency maintaining civil, criminal or other relevant enforcement information, data relevant to a Commission decision concerning the issuance of a license.

5. To provide or disclose information to a Federal agency in response to its request in connection with the hiring or retention of an employee previously employed by a licensee, the issuance of a security clearance, the letting of a contract, or the issuance of a license, grant, or other benefit by the requesting agency, to the extent that the information is relevant and necessary to the requesting agency's decision on that matter.

6. To provide or update information maintained in the U.S. Customs and Border Protection's (CBP) Automated Commercial Environment/International Trade Data System (ACE/ITDS) to verify licensed or registered status of OTIs under Trade Act of 2002 and related CBP requirements, or any other successor agency or organization.

7. To appropriate agencies, entities, and persons when (a) The Federal Maritime Commission suspects or has confirmed that the security or confidentiality of information in the system of records has been compromised; (b) the agency has determined that as a result of the suspected or confirmed compromise there is a risk of harm to economic or property interests, identity theft or fraud, or harm to the security or integrity of this system or other systems or programs (whether maintained by the agency or another agency or entity) that rely upon the compromised information; and (c) the disclosure made to such agencies, entities, and persons is reasonably necessary to assist in connection with the agency's efforts to respond to the suspected or confirmed compromise and prevent, minimize, or remedy such harm.

Policies and practices for storing, retrieving, accessing, retaining, and disposing of records in the system:

Storage:

Records are maintained in file folders and in a personal computer on-site at Commission headquarters.

Retrievability:

Records are indexed by name and license or organization number.

Safeguards:

Records are maintained in an area of restricted accessibility.

Retention and disposal:

Applicant and licensee files are kept as long as the application and/or license is active. Files for withdrawn and denied applicants, and revoked licenses remain in the Record Location Center ten years after final action. After ten years the files are destroyed.

System manager(s) and address:

Director, Bureau of Certification and Licensing, Federal Maritime Commission, 800 North Capitol Street, NW., Washington, DC 20573-0001.

Notification procedure:

All inquiries regarding this system of records should be addressed to: Secretary, Federal Maritime Commission, 800 North Capitol Street, NW., Washington, DC 20573-0001.

Record access procedures:

Requests for access to a record should be directed to the Secretary listed at the above address. Request may be in person or by mail and shall meet the requirements set out in section 503.65 of title 46 of the Code of Federal Regulations.

Contesting record procedures:

An individual desiring to amend a record shall direct such request to the Secretary at the above listed address. Such requests shall specify the desired amendments and the reasons therefor, and shall meet the requirements of section 503.66 of title 46 of the Code of Federal Regulations.

Record source categories:

1. Information submitted by applicants and licensees.

2. Information submitted by Commission Area Representatives.

3. Information submitted by the general public (e.g., through complaints).

4. Information submitted by surety companies.

5. Information obtained through Internet Web site searches and selected commercial and government database searches conducted by Bureau of Certification and Licensing staff in processing OTI license applications (e.g., Choicepoint and Dun & Bradstreet).

Systems exempted from certain provisions of the Act:

All information that meets the criteria of 5 U.S.C. 552a(k)(2) regarding investigatory materials compiled for law enforcement purposes is exempt from the provisions of 5 U.S.C. 552a(c)(3), (d), (e)(1), (e)(4)(G), (H), and (I), and (f). Exemption is appropriate to avoid compromise of ongoing investigations, disclosure of the identity of confidential sources and unwarranted invasions of personal privacy of third parties.

FMC-8

System name:

Official Personnel Folder—FMC.

System location:

Office of Human Resources, Federal Maritime Commission, 800 North Capitol Street, NW., Washington, DC 20573-0001.

This system is covered by the Office of Personnel Management's government-wide system notice, OPM/GOVT-1.

FMC-9

System name:

Training Program Records—FMC.

System location:

Office of Human Resources, Federal Maritime Commission, 800 N. Capitol Street, NW., Washington, DC 20573-0001.

This system is covered by the Office of Personnel Management's government-wide system notice, OPM/GOVT-1.

FMC-10

System name:

Desk Audit File—FMC.

Security Classification:

Unclassified.

System location:

Office of Human Resources, Federal Maritime Commission, 800 North Capitol Street, NW., Washington, DC 20573-0001.

Categories of individuals covered by the system:

Current and former employees of the Federal Maritime Commission.

Categories of records in the system:

Each record consists of the position classification specialist's notes of conversations, evaluation reports, background papers, and/or research material used to support the final position classification.

Authority for maintenance of the system:

44 U.S.C. 3101 et seq., 5 U.S.C. 1302 and the regulations issued pursuant thereto.

Routine uses of records maintained in the system, including categories of users and the purposes of such uses:

Information in this system of records is used or may be used:

1. By Commission officials to support decisions on the proper classification of a position.

2. To refer, where there is an indication of a violation or potential violation of law, whether civil or criminal or regulatory in nature, information to the appropriate agency, whether Federal, State, or local, charged with the responsibility of investigating or prosecuting such violation or charged with enforcing or implementing the statute, rule, regulation or order issued pursuant thereto.

3. To request from a Federal, State, or local agency maintaining civil, criminal, or other relevant enforcement information, data relevant to a Commission decision concerning the hiring or retention of an employee, the issuance of a security clearance, the letting of a contract, or the issuance of a license, grant, or other benefit.

4. To provide or disclose information to a Federal agency in response to its request in connection with the hiring or retention of an employee, the issuance of a security clearance, the letting of a contract, or the issuance of a license, grant or other benefit by the requesting agency, to the extent that the information is relevant and necessary to the requesting agency's decision on that matter.

5. By the Office of Personnel Management in the course of an investigation, or evaluating for statistical or management analysis purposes.

6. To appropriate agencies, entities, and persons when (a) The Federal Maritime Commission suspects or has confirmed that the security or confidentiality of information in the system of records has been compromised; (b) the agency has determined that as a result of the suspected or confirmed compromise there is a risk of harm to economic or property interests, identity theft or fraud, or harm to the security or integrity of this system or other systems or programs (whether maintained by the agency or another agency or entity) that rely upon the compromised information; and (c) the disclosure made to such agencies, entities, and persons is reasonably necessary to assist in connection with the agency's efforts to respond to the suspected or confirmed compromise and prevent, minimize, or remedy such harm.

Policies and practices for storing, retrieving, accessing, retaining, and disposing of records in the system:

Storage:

Records are maintained in file folders.

Retrievability:

Records are indexed alphabetically by name.

Safeguards:

Records are maintained in locked file cabinets.

Retention and disposal:

Records are maintained as long as the position audited remains essential, current, and accurate, after which they are destroyed.

System manager(s) and address:

Director of Human Resources, Federal Maritime Commission, 800 North Capitol Street, NW., Washington, DC 20573-0001.

Notification procedure:

All inquiries regarding this system of records should be addressed to: Secretary, Federal Maritime Commission, 800 North Capitol Street, NW., Washington, DC 20573-0001.

Record access procedures:

Requests for access to a record should be directed to the Secretary listed at the above address. Requests may be in person or by mail and shall meet the requirements set out in section 503.65 of title 46 of the Code of Federal Regulations.

Contesting record procedures:

An individual desiring to amend a record shall direct such a request to the Secretary at the above listed address. Such requests shall specify the desired amendments and the reasons therefor, and shall meet the requirements of section 503.66 of title 46 of the Code of Federal Regulations.

Record source categories:

Human Resources Specialists of the Commission.

FMC-14

System name:

Medical Examination File—FMC.

System location:

Office of Human Resources, Federal Maritime Commission, 800 North Capitol Street, NW., Washington, DC 20573-0001.

This system is covered by the Office of Personnel Management's government-wide system notice, OPM/GOVT-10.

FMC-16

System name:

Classification Appeals File-FMC.

System location:

Office of Human Resources, Federal Maritime Commission, 800 North Capitol Street, NW., Washington, DC 20573-0001.

Note: This system is covered by the Office of Personnel Management's government-wide system notice, OPM/GOVT-9.

FMC-18

System name:

Travel Orders/Vouchers File—FMC.

Security Classification:

Unclassified.

System location:

Office of Financial Management, Federal Maritime Commission, 800 North Capitol Street, NW., Washington, DC 20573-0001.

Categories of individuals covered by the system:

Employees of the Federal Maritime Commission.

Categories of records in the system:

The record consists of the initial travel order for the individual and the subsequent travel voucher prepared from information supplied by the individual which includes hotel bills, subsistence breakdown, cab fares and air fares.

Authority for maintenance of the system:

Federal Travel Regulation, 41 CFR parts 301-304.

Routine uses of records maintained in the system, including categories of users and the purposes of such uses:

Records in this system of records are used or may be used:

1. By the Commission for the authorization of travel performed by personnel of the Commission.

2. By the Commission to prepare travel vouchers for submission to the Bureau of Public Debt through E-Gov and to maintain internal control of travel expenses within this agency.

3. To refer, where there is an indication of a violation or potential violation of law, whether civil or criminal in nature, information to the appropriate agency, whether Federal, State or local, charged with the responsibility of investigating or prosecuting such violation or charged with enforcing or implementing the statute or rule, regulation or order issued pursuant thereto.

4. To appropriate agencies, entities, and persons when (a) The Federal Maritime Commission suspects or has confirmed that the security or confidentiality of information in the system of records has been compromised; (b) the agency has determined that as a result of the suspected or confirmed compromise there is a risk of harm to economic or property interests, identity theft or fraud, or harm to the security or integrity of this system or other systems or programs (whether maintained by the agency or another agency or entity) that rely upon the compromised information; and (c) the disclosure made to such agencies, entities, and persons is reasonably necessary to assist in connection with the agency's efforts to respond to the suspected or confirmed compromise and prevent, minimize, or remedy such harm.

Policies and practices for storing, retrieving, accessing, retaining, and disposing of records in the system:

Storage:

Records are maintained in file folders.

Retrievability:

Records are indexed by name or bureau.

Safeguards:

Records are maintained in a locking file cabinet and monitored by the Director of the Office of Financial Management.

Retention and disposal:

The records are maintained for six years and are then destroyed by shredding (in accordance with General Records Schedule 9).

System manager(s) and address:

Director, Office of Financial Management, Federal Maritime Commission, 800 North Capitol Street, NW., Washington, DC 20573-0001.

Notification procedure:

All inquiries regarding this system of records should be addressed to: Secretary, Federal Maritime Commission, 800 North Capitol Street, NW., Washington, DC 20573-0001.

Record access procedures:

Requests for access to a record should be directed to the Secretary listed at the above address. Requests may be in person or by mail and shall meet the requirements set out in section 503.65 of title 46 of the Code of Federal Regulations.

Contesting record procedures:

An individual desiring to amend a record shall direct such a request to the Secretary at the above listed address. Such requests shall specify the desired amendments and the reasons therefor, and shall meet the requirements of section 503.66 of title 46 of the Code of Federal Regulations.

Record source categories:

Individual to whom the record pertains, hotel bills, individual's subsistence record, and Travel Requests (airline or train).

FMC-19

System name:

Financial Disclosure Reports and Other Ethics Program Records.

System location:

Office of the General Counsel, Federal Maritime Commission, 800 North Capitol Street, NW., Washington, DC 20573-0001.

Note: This system is covered by the Office of Government Ethics' government-wide systems notices, OGE/GOVT-1 and OGE/GOVT-2.

FMC-22

System name:

Records Tracking System.

System Classification:

Unclassified.

System location:

Bureau of Enforcement, Federal Maritime Commission, 800 N. Capitol Street, NW., Washington, DC 20573-0001.

Categories of individuals covered by the system:

Individuals whose names may be found in the system include employees, officers, directors, and owners of ocean common carriers, non-vessel operating common carriers, ocean freight forwarders, passenger vessel operators, ports and terminal operators, shippers, consignees, conferences and agreements between ocean common carriers, and other entities associated with any of the foregoing. Included are individuals alleged to have violated one of the statutes or regulations administered by the Federal Maritime Commission, individuals who provided information during an investigation, and others necessary to the full development of an investigation. Not included are attorneys, government officials, Federal Maritime Commission employees, or individuals only incidentally involved in an investigation.

Categories of records in the system:

The Records Tracking System includes records on individuals involved in official investigations conducted by the Bureau of Enforcement, fact finding and formal proceedings instituted by the Federal Maritime Commission, court proceedings, and civil and criminal investigations conducted in association with other government agencies. Investigations include investigations of alleged violations of the statutes or regulations administered by the Commission, freight forwarder application inquiries, freight forwarder application checks, freight forwarder compliance checks, service contract audits, common carrier audits, passenger vessel audits, special inquiries, undeveloped leads, intelligence activities, and other matters authorized by the Bureau of Enforcement.

The Records Tracking System includes all files and records of the Bureau, wherever located. The system also includes reports or other information from other government agencies, shipping and commercial records, investigative work product, notes of interviews, documents obtained from any source, schedules of data, investigative plans and directives, disclosures, settlement agreements, and any other records prepared in conjunction with a case including information which tends to explain, interpret, or substantiate any of the above. The system also includes indices of these records, tracking systems, and listings of information otherwise included within the system.

The Records Tracking System contains information in electronic and paper media. Information within the system may be stored in files or data bases by specific subject or in general groupings. The information remains within the system through analysis, research, corroboration, field investigation, reporting, and referral within the Commission or to another government agency. Information remains within the system whether a case is open or closed or the matter becomes inactive. Information also remains within the system when records are retired to storage or are otherwise purged.

Authority for maintenance of the system:

Shipping Act of 1984, Intercoastal Shipping Act, 1933, and Shipping Act, 1916 (46 U.S.C. app. 1701, 843, and 801).

Routine uses of records maintained in the system, including categories of users and the purposes of such uses:

1. In the event that a system of records maintained by the FMC to carry out its functions indicates a violation or potential violation of law or contract, whether civil, criminal or regulatory in nature, and whether arising by general statute or particular program statute, or by rule, regulation, or order issued pursuant thereto, the relevant records in the system of records may be referred, as a routine use, to the appropriate agency, whether Federal, State, local or foreign, charged with the responsibility of investigating or prosecuting such violation or charged with enforcing or implementing the statute, or rule, regulation or order issued pursuant thereto.

2. A record from this system of records may be disclosed, as a routine use, to a Federal, State or local agency maintaining civil, criminal or other relevant enforcement information or other pertinent information, such as current licenses, if necessary to obtain information relevant to an FMC decision concerning the assignment, hiring or retention of an individual, the issuance of a security clearance, or the issuance of a license, grant or other benefit.

3. A record from this system of records may be disclosed, as a routine use, to a Federal, State, local or international agency, in response to its request, in connection with the assignment, hiring or retention of an individual, the issuance of a security clearance, the reporting of an investigation of an individual, the letting of a contract, or the issuance of license, grant, or other benefit by the requesting agency to the extent that the information is relevant and necessary to the requesting agency's decision on the matter.

4. A record from this system of records may be disclosed, as a routine use, in the course of presenting evidence to a court magistrate or administrative tribunal, including disclosures to opposing counsel in the course of settlement negotiations.

5. A record in this system of records may be disclosed as a routine use to either House of Congress, or to the extent of matter within its jurisdiction, any committee or subcommittee thereof, any joint committee of Congress or subcommittee of such joint committee.

6. A record in this system of records may be disclosed, as a routine use, to the Department of Justice in connection with determining whether disclosure thereof is required by the Freedom of Information Act (5 U.S.C. 552).

7. A record in this system may be transferred, as a routine use, to the Office of Personnel Management for personnel research purposes; as a data source for management information; for the production of summary descriptive statistics and analytical studies in support of the function for which the records are collected and maintained; or for related manpower studies.

8. To appropriate agencies, entities, and persons when (a) The Federal Maritime Commission suspects or has confirmed that the security or confidentiality of information in the system of records has been compromised; (b) the agency has determined that as a result of the suspected or confirmed compromise there is a risk of harm to economic or property interests, identity theft or fraud, or harm to the security or integrity of this system or other systems or programs (whether maintained by the agency or another agency or entity) that rely upon the compromised information; and (c) the disclosure made to such agencies, entities, and persons is reasonably necessary to assist in connection with the agency's efforts to respond to the suspected or confirmed compromise and prevent, minimize, or remedy such harm.

Policies and practices for storing, retrieving, accessing, retaining, and disposing of records in the system:

Storage:

Records are maintained in paper form in filing cabinets and in a Lektriever, Series 80. Statistical data taken from record forms are maintained in a personal computer.

Retrievability:

Information filed by case of subject file. Records pertaining to individuals are accessed by reference to the Bureau of Enforcement's name-relationship index system.

Safeguards:

Records are located in locked metal file cabinets or in metal file cabinets in secured rooms or secured premises with access limited to those whose official duties require access. The Lektriever files are locked with a key and the key is secured in a locked file cabinet. Computer information is safeguarded with an access code. Files are maintained in buildings that have 24 hour security guards.

Retention and disposal:

Records are retained for 7 years after the end of the calendar year in which the case file actions are concluded; the records are destroyed 25 years after cutoff.

System manager(s) and address:

Director, Bureau of Enforcement, Federal Maritime Commission, 800 North Capitol Street, NW., Washington, DC 20573-0001.

Notification procedure:

All inquiries regarding this system of records should be addressed to: Secretary, Federal Maritime Commission, 800 North Capitol Street, NW., Washington, DC 20573-0001.

Record access procedures:

Requests for access to a record should be directed to the Secretary listed at the above address. Requests may be in person or by mail and shall meet the requirements set out in section 503.65 of title 46 of the Code of Federal Regulations.

Contesting record procedures:

An individual desiring to amend a record shall direct such a request to the Secretary at the above listed address. Such requests shall specify the desired amendments and the reasons therefor, and shall meet the requirements of section 503.66 of title 46 of the Code of Federal Regulations.

Record source categories:

Individual shippers, carriers, freight forwarders, those authorized by the individual to furnish information, trade sources, investigative agencies, investigative personnel of the Bureau of Enforcement and other sources of information.

Systems exempted from certain provisions of the Act:

All information that meets the criteria of 5 U.S.C. 552a(k)(2) regarding investigatory materials compiled for law enforcement purposes is exempt from the provisions of 5 U.S.C. 552a(c)(3), (d), (e)(1), (e)(4)(G), (H), and (I), and (f). Exemption is appropriate to avoid compromise of ongoing investigations, disclosure of the identity of confidential sources and unwarranted invasions of personal privacy of third parties.

FMC-24

System name:

Informal Inquiries and Complaints Files—FMC.

Security Classification:

Unclassified.

System location:

Office of Informal Inquiries and Complaints, Federal Maritime Commission, 800 North Capitol Street, NW., Washington, DC 20573-0001.

Categories of individuals covered by the system:

Consumers complaining against business entities regulated by the Commission

Categories of records in the system:

Copies of complaints and correspondence developed in their resolution complaint tracking logs; and complaint tracking electronic summary database.

Authority for maintenance of the system:

Executive Order 12160, September 26, 1979.

Routine uses of records maintained in the system, including categories of users and the purposes of such uses:

Information in this system of records is used or may be used:

1. To determine whether a complaint can be resolved by staff in various bureaus and offices.

2. To determine whether a complaint can be resolved by a business entity regulated by the Commission.

3. To determine whether the complaint can be resolved by reference to another agency at the Federal, State or local level.

4. To provide information to the Commission on developments or trends in the character of complaints which might suggest policy directions, proposed rules or programs.

5. To appropriate agencies, entities, and persons when (a) The Federal Maritime Commission suspects or has confirmed that the security or confidentiality of information in the system of records has been compromised; (b) the agency has determined that as a result of the suspected or confirmed compromise there is a risk of harm to economic or property interests, identity theft or fraud, or harm to the security or integrity of this system or other systems or programs (whether maintained by the agency or another agency or entity) that rely upon the compromised information; and (c) the disclosure made to such agencies, entities, and persons is reasonably necessary to assist in connection with the agency's efforts to respond to the suspected or confirmed compromise and prevent, minimize, or remedy such harm.

Policies and practices for storing, retrieving, accessing, retaining, and disposing of records in the system:

Storage:

Physical records are maintained in file folders; the electronic database is maintained on the Commission's local area network.

Retrievability:

Physical and electronic records are serially numbered and indexed by complainant and respondents.

Safeguards:

Physical records are maintained in locked file cabinets; access to electronic records is password protected.

Retention and disposal:

Records are maintained by the Federal Maritime Commission for four years and then destroyed. The electronic summary database is permanently maintained.

System manager(s) and address:

Director, Office of Informal Inquiries and Complaints, Federal Maritime Commission, 800 North Capitol Street, NW., Washington, DC 20573-0001.

Notification procedure:

All inquiries regarding this system of records should be addressed to: Secretary, Federal Maritime Commission, 800 North Capitol Street, NW., Washington, DC 20573-0001.

Record access procedures:

Requests for access to a record should be directed to the Secretary listed at the above address. Requests may be in person or by mail and shall meet the requirements set out in section 503.65 of title 46 of the Code of Federal Regulations.

Contesting record procedures:

An individual desiring to amend a record shall direct such request to the Secretary at the above listed address. Such requests shall specify the desired amendments and the reasons therefor, and shall meet the requirements of section 503.66 of title 46 of the Code of Federal Regulations.

Record source categories:

Consumers who have filed complaints.

Systems exempted from certain provisions of the Act:

All information that meets the criteria of 5 U.S.C. 552a(k)(2) regarding investigatory materials compiled for law enforcement purposes is exempt from the provisions of 5 U.S.C. 552a(c)(3), (d), (e)(1), (e)(4)(G), (H), and (I), and (f). Exemption is appropriate to avoid compromise of ongoing investigations, disclosure of the identity of confidential sources and unwarranted invasions of personal privacy of third parties.

FMC-25

System name:

Inspector General File.

System Classification:

Unclassified.

System location:

Office of the Inspector General, Federal Maritime Commission, 800 North Capitol Street, NW., Washington, DC 20573-0001.

Categories of individuals covered by the system:

Individuals and entities who are or have been the subjects of investigations conducted by the OIG, including present and former FMC employees; consultants, contractors, and subcontractors and their employees; and other individuals and entities doing business with the FMC.

Categories of records in the system:

A. Investigative Case Files

1. Case Index

Selected information from each case file indexed by case file number, and case title which may include names of subjects of investigations.

2. Hard Copy Files

Case files developed during investigations of known or alleged fraud and abuse and irregularities and violations of laws and regulations. Cases relate to agency personnel and programs and operations administered by the agency, including contractors and others having a relationship with the agency. Files consist of investigative reports and related documents, such as correspondence, internal staff memoranda, copies of all subpoenas issued during the investigation, affidavits, statements from witnesses, transcripts of testimony taken in the investigation and accompanying exhibits, notes, attachments, and working papers. Files containing information or allegations which are of an investigative nature but do not relate to a specific investigation.

B. Hotline Complaints

1. Hotline Index

Selected information from each hotline complaint file indexed by hotline case number and title which may include names of subject of hotline complaint.

2. Hard Copy Files

Information obtained from hotline complainants reporting indications of waste, fraud, and mismanagement. Specific information to include name and address of complainant, date complaint received, program area, nature and subject of complaint, and any additional contacts and specific information provided by the complainant. Information on OIG disposition.

Authority for maintenance of the system:

The Inspector General Act of 1978 (5 U.S.C. App. 3), as amended by Pub. L. 100-504; 44 U.S.C. 3101 et seq.; Commission Order No. 113.

Purpose(s):

The records maintained in the system are used by the OIG in furtherance of the responsibilities of the Inspector General, pursuant to the Inspector General Act of 1978, as amended, to conduct and supervise audits and investigations relating to programs and operations of the FMC; to promote economy, efficiency, and effectiveness in the administration of such programs and operations; and to prevent and detect fraud and abuse in such programs and operations.

Routine uses of records maintained in the system, including categories of users and the purposes of such uses:

The records in the system may be used and disseminated to further the purposes described above. The following routine uses apply to the records maintained in this system:

1. A record may be disclosed to an individual, or to a Federal, State, local, or international agency when necessary to further the ends of a legitimate investigation or audit.

2. A record which indicates either by itself or in combination with other information within the agency's possession, a violation or potential violation of law, whether civil, criminal, or regulatory in nature, and whether arising by general statute or particular program statute, or by rule, regulation, or order issued pursuant thereto, or which indicates a violation or potential violation of a contract, may be disclosed to the appropriate agency, whether Federal, State, local or international, charged with the responsibility of investigating or prosecuting such violation, or of enforcing or implementing the statute, or rule, regulation, or order issued pursuant thereto, or of enforcing the contract.

3. A record may be disclosed to a Federal, State, local or international agency, in response to its request, in connection with the assignment, hiring, or retention of an individual, the issuance of a security clearance, the reporting of an investigation of an individual, the letting of a contract, or the issuance of a license, grant, or other benefit by the requesting agency, to the extent that the information is relevant and necessary to the requesting agency's decision on the matter.

4. A record may be disclosed to a Member of Congress who submits an inquiry on behalf of an individual, when the Member of Congress informs the FMC that the individual to whom the record pertains has authorized the Member of Congress to have access to the record. In such cases, the Member of Congress has no more right to the record than does the individual.

5. A record may be disclosed to the Office of Government Ethics for any purpose consistent with that Office's mission, including the compilation of statistical data.

6. A record may be disclosed to the U.S. Department of Justice in order to obtain that Department's advice regarding an agency's disclosure obligation under the Freedom of Information Act.

7. A record may be disclosed to the Office of Management and Budget in order to obtain that Office's advice regarding an agency's obligations under the Privacy Act.

8. A record may be disclosed to a grand jury agent pursuant either to a federal or state grand jury subpoena or to a prosecution request that such record be released for the purpose of its introduction to a grand jury.

9. A record may be disclosed to a “consumer reporting agency” as that term is defined in the Fair Credit Reporting Act and the Federal Claims Collection Act of 1966 in accordance with section 3711(f) of 31 U.S.C. and for the purposes of obtaining information in the course of an investigation or audit.

10. To appropriate agencies, entities, and persons when (a) The Federal Maritime Commission suspects or has confirmed that the security or confidentiality of information in the system of records has been compromised; (b) the agency has determined that as a result of the suspected or confirmed compromise there is a risk of harm to economic or property interests, identity theft or fraud, or harm to the security or integrity of this system or other systems or programs (whether maintained by the agency or another agency or entity) that rely upon the compromised information; and (c) the disclosure made to such agencies, entities, and persons is reasonably necessary to assist in connection with the agency's efforts to respond to the suspected or confirmed compromise and prevent, minimize, or remedy such harm.

Policies and practices for storing, retrieving, accessing, retaining, and disposing of records in the system:

Storage:

The investigative case index and the hotline case index are stored on a hard disk on a personal computer. The hard copy files are stored in file folders. All records are stored under secured conditions.

Retrievability:

Records in the investigative and hotline case index are retrieved by case title which may include the name of the subject of an investigation and by case number. Records in the hard copy files are retrieved by case numbers.

Safeguards:

Direct access is limited to authorized staff of the OIG. Additional access within FMC is limited to authorized officials on a need-to-know basis. All records, when not in a possession of an authorized individual are stored in locked cabinets or a locked, standalone, personal computer in a locked room.

Retention and disposal:

1. Files containing information or allegations which are of an investigative nature but do not relate to a specific investigation are retained for seven years.

2. Other investigative case files are retained for ten years.

System manager(s) and address:

Inspector General, Office of The Inspector General, Federal Maritime Commission, Room 1072, 800 North Capitol Street, NW., Washington, DC 20573-0001.

Notification procedure:

All inquiries regarding this system of records should be addressed to: Secretary, Federal Maritime Commission, 800 North Capitol Street, NW., Washington, DC 20573-0001. However, see Exemption section below.

Record access procedures:

Requests for access to a record should be directed to the Secretary listed at the above address. Requests may be in person or by mail and shall meet the requirements set out in section 503.65 of title 46 of the Code of Federal Regulations. However, see Exemption section below.

Contesting record procedures:

An individual desiring to amend a record shall direct such a request to the Secretary at the above listed address. Such requests shall specify the desired amendments and the reasons therefor, and shall meet the requirements of section 503.66 of title 46 of the Code of Federal Regulations. However, see Exemption section below.

Record source categories:

Agency employees, reports and contracts from other agencies, and internal and external documents.

Systems exempted from certain provisions of the act:

All information that meets the criteria of 5 U.S.C. 552a(k)(2) regarding investigatory materials compiled for law enforcement purposes is exempt from the provisions of 5 U.S.C. 552a(c)(3), (d), (e)(1), (e)(4)(G), (H), and (I), and (f). Exemption is appropriate to avoid compromise of ongoing investigations, disclosure of the identity of confidential sources and unwarranted invasions of personal privacy of third parties.

All information about individuals that meets the criteria of 5 U.S.C. 552a(k)(5), regarding suitability, eligibility or qualifications for Federal civilian employment or for access to classified information, to the extent that disclosure would reveal the identity of a source who furnished information to the Commission under a promise of confidentiality is exempt from the provisions of 5 U.S.C. 552a(c)(3), (d), (e)(1), (e)(4)(G), (H), and (I), and (f). Exemption is required to honor promises of confidentiality.

All information meeting the criteria of 5 U.S.C. 552a(j)(2) pertaining to the enforcement of criminal laws is exempt from the provisions of 5 U.S.C. 552a, except subsections (b), (c)(1) and (2), (e)(4)(A) through (F), (e)(6), (7), (9), (10), and (11), and (i). Exemption is appropriate to avoid compromise of ongoing investigations, disclosure of the identity of confidential sources and unwarranted invasions of personal privacy of third parties.

FMC-26

System name:

Administrative Grievance File—FMC.

System Classification:

Unclassified.

System location:

Office of Human Resources, Federal Maritime Commission, 800 North Capitol Street, NW., Washington, DC 20573-0001.

Categories of individuals covered by the system:

Any employee of the Federal Maritime Commission, including any former employee for whom a remedy can be provided.

Categories of records in the system:

Administrative Grievance Files contain all documents related to a particular grievance, including but not limited to any statements of witnesses, records or copies thereof, the report of the hearing when one is held, statements made by the parties to the grievance, and the decision.

Authority for maintenance of the system:

5 U.S.C. 1302, 3301, 3302, 7301, E.O. 9830, 3 CFR 1943-1948 Comp., pp. 606-624; E.O. 11222, 3 CFR 2964-2969 Comp., p. 306.

Routine uses of records maintained in the system, including categories of users and the purposes of such uses:

Information in this system of records is used or may be used:

1. By Commission officials designated as grievance examiners for the purpose of adjudication, by the Director of EEO in the event of an investigation when the EEO complaint relates to the grievance, or for information concerning the outcome of the grievance.

2. By the Office of Personnel Management in the course of an investigation of a particular employee of the Commission, for statistical analysis purposes, or for program compliance checks.

3. By the Merit Systems Protection Board if necessitated by an appeal.

4. By the appropriate District Court of the United States to render a decision when the Commission has refused to release a current or former employee's record under the Freedom of Information Act.

5. To refer, where there is an indication of a violation or potential violation of law, whether civil, criminal or regulatory in nature, information to the appropriate agency, whether Federal, State, or local, charged with the responsibility of investigating or prosecuting such violation or charged with enforcing or implementing the statute, rules, regulation or order issued pursuant thereto.

6. To request from a Federal, State, or local agency maintaining civil, criminal, or other relevant enforcement information, data relevant to a Commission decision concerning the hiring or retention of an employee.

7. To provide or disclose information to a Federal agency in response to its request in connection with the hiring or retention of an employee, to the extent that the information is relevant and necessary to the requesting agency's decision on that matter.

8. By the employee or his/her designated representative in order to gather or provide information necessary to process the grievance.

9. To appropriate agencies, entities, and persons when (a) The Federal Maritime Commission suspects or has confirmed that the security or confidentiality of information in the system of records has been compromised; (b) the agency has determined that as a result of the suspected or confirmed compromise there is a risk of harm to economic or property interests, identity theft or fraud, or harm to the security or integrity of this system or other systems or programs (whether maintained by the agency or another agency or entity) that rely upon the compromised information; and (c) the disclosure made to such agencies, entities, and persons is reasonably necessary to assist in connection with the agency's efforts to respond to the suspected or confirmed compromise and prevent, minimize, or remedy such harm.

Policies and practices for storing, retrieving, accessing, retaining, and disposing of records in the system:

Storage:

Records are maintained in file folders.

Retrievability:

Records are indexed alphabetically by name.

Safeguards:

Records are stored in locked file cabinets.

Retention and disposal:

In accordance with General Records Schedule 1, the Administrative Grievance File is destroyed 4 years after case is closed.

System manager(s) and address:

Director of Human Resources, Federal Maritime Commission, 800 North Capitol Street, NW., Washington, DC 20573-0001.

Notification procedure:

All inquiries regarding this system of records should be addressed to: Secretary, Federal Maritime Commission, 800 North Capitol Street, NW., Washington, DC 20573-0001.

Record access procedures:

Requests for access to a record should be directed to the Secretary listed at the above address. Requests may be in person or by mail and shall meet the requirements set out in section 503.65 of title 46 of the Code of Federal Regulations.

Contesting record procedures:

An individual desiring to amend a record shall direct such request to the Secretary at the above listed address. Such requests shall specify the desired amendments and the reasons therefor, and shall meet the requirements of section 503.66 of title 46 of the Code of Federal Regulations.

Record source categories:

Information is supplied by the individual to whom the record pertains and/or by his or her representative, human resource specialists, grievance examiners, and any parties providing information bearing directly on the grievance.

Systems exempted from certain provisions of the Act:

All information that meets the criteria of 5 U.S.C. 552a(k)(2) regarding investigatory materials compiled for law enforcement purposes is exempt from the provisions of 5 U.S.C. 552a(c)(3), (d), (e)(1), (e)(4)(G), (H), and (I), and (f). Exemption is appropriate to avoid compromise of ongoing investigations, disclosure of the identity of confidential sources and unwarranted invasions of personal privacy of third parties.

All information about individuals that meets the criteria of 5 U.S.C. 552a(k)(5), regarding suitability, eligibility or qualifications for Federal civilian employment or for access to classified information, to the extent that disclosure would reveal the identity of a source who furnished information to the Commission under a promise of confidentiality is exempt from the provisions of 5 U.S.C. 552a(c)(3), (d), (e)(1), (e)(4)(G), (H), and (I), and (f). Exemption is required to honor promises of confidentiality.

FMC-28

System name:

Equal Employment Opportunity Complaint Files—FMC.

System location:

Office of General Counsel, Federal Maritime Commission, 800 N. Capitol Street, NW., Washington, DC 20573-0001.

Note: This system of records is covered by the Equal Employment Opportunity Commission's Government-wide system notice, EEOC/GOVT-1.

FMC-29

System name:

Employee Performance File System Records—FMC.

System location:

Office of Human Resources, Federal Maritime Commission, 800 North Capitol Street, NW., Washington, DC 20573-0001.

This system of records is covered by the Office of Personnel Management's Government-wide system notice, OPM/GOVT-2.

FMC-31

System name:

Debt Collection Files.

Security Classification:

Unclassified.

System location:

Records are located in the Office of Financial Management, Federal Maritime Commission, 800 North Capitol Street, NW., Washington, DC 20573.

Categories of individuals covered by the system:

Individuals who are indebted to FMC.

Categories of records in the system:

The Debt Collection Officer's file will contain copies of debt collection letters, bills for collection, and correspondence to and from the debtor relating to the debt. The file will include such information as the name and address of the debtor, taxpayer's identification number (which may be the Social Security Number); amount of debt or delinquent amount; basis of debt; date debt arose; office/bureau referring debt to the Debt Collection Officer; record of each collection made; credit report; financial statement reflecting the net worth of the debtor; date by which debt must be referred to the Department of the Treasury for further collection action; and citation or basis on which debt was terminated or compromised.

Authority for maintenance of the system:

31 U.S.C. 3701 et seq., Debt Collection Act of 1982 (Pub. L. 97-365, 96 Stat. 1749) as amended by the Debt Collection Improvement Act of 1996 (Pub. L. 104-134, 101 Stat. 1321-358).

Purpose(s):

Information is used for the purpose of collecting monies owed FMC arising out of any administrative or program activities or services administered by FMC. The Debt Collection Officer's file represents the basis for the debt and amount of debt and actions taken by FMC to collect the monies owed under the debt. The credit report or financial statement provides an understanding of the individual's financial condition with respect to requests for deferment of payment.

Routine uses of records maintained in the system, including categories of users and the purposes of such uses:

1. When debts are uncollectible, copies of the FMC Debt Collection Officer's file regarding the debt and actions taken to attempt to collect the monies are forwarded to the Department of Treasury for further collection action. FMC may also provide Treasury with copies of the debt collection letter, bill for collection, and FMC correspondence to the debtor.

2. Disclosure pursuant to 5 U.S.C. 552a(b)(12).

3. Disclosures may be made from this system to “consumer reporting agencies” as defined in the Fair Credit Reporting Act (15 U.S.C. 1681a(f) or the Federal Claims Collection Act of 1966 (31 U.S.C. 3701(a)(3)).

4. To appropriate agencies, entities, and persons when (a) The Federal Maritime Commission suspects or has confirmed that the security or confidentiality of information in the system of records has been compromised; (b) the agency has determined that as a result of the suspected or confirmed compromise there is a risk of harm to economic or property interests, identity theft or fraud, or harm to the security or integrity of this system or other systems or programs (whether maintained by the agency or another agency or entity) that rely upon the compromised information; and (c) the disclosure made to such agencies, entities, and persons is reasonably necessary to assist in connection with the agency's efforts to respond to the suspected or confirmed compromise and prevent, minimize, or remedy such harm.

Policies and practices for storing, retrieving, accessing, retaining, and disposing of records in the system:

Storage:

Records are maintained in notebooks, file folders, on lists and forms, and in computer processible storage media.

Retrievability:

The system files are filed by bill for collection number, name, or taxpayer's identification number (which may be the Social Security Number).

Safeguards:

Personnel screening, hardware, and software computer security measures; paper records are maintained in locked containers and/or room. All records are maintained in areas that are secured by building guards during non-business hours. Records are retained in areas accessible only to authorized personnel.

Retention and disposal:

In accordance with General Records Schedule 6, the records are maintained for 6 years and 3 months and then shredded.

System manager(s) and address:

Director, Office of Financial Management, Federal Maritime Commission, 800 North Capitol Street, NW., Washington, DC 20573.

Notification procedure:

Individuals wishing to inquire whether this system of records contains information about themselves should contact the system manager identified above. Written requests should be clearly marked “Privacy Act Request” on the envelope and letter. Requests should include full name of the individual, some type of appropriate personal identification, and current address.

For personal visits, the individuals should be able to provide some acceptable identification—that is, driver's license, employing organization identification card, or other picture identification card.

Record access procedures:

Same as Notification procedures above.

Contesting record procedures:

Same as Notification procedures above. The letter should state clearly and concisely what information is being contested, the reason for contesting it, and the proposed amendment to the information sought.

FMC Privacy Act Regulations are promulgated in 46 CFR part 503.

Record source categories:

Directly from the debtor, the initial application, credit report from the commercial credit bureau, administrative or program offices within FMC.

By the Commission.
Karen V. Gregory,
Assistant Secretary.

[FR Doc. E8-15041 Filed 7-1-08; 8:45 am]

BILLING CODE 6730-01-P